DEPARTMENT OF ENERGY

Federal Energy Regulatory Commission

Combined Notice of Filings # 2

September 4, 2008.

Take notice that the Commission received the following exempt wholesale generator filings:

Docket Numbers: EG08-93-000.

Applicants: Greenfield Energy Centre, LP.

Description: Notice of Self-Certification of Exempt Wholesale Generator Status.

Filed Date: 09/03/2008.

Accession Number: 20080903-5088.

Comment Date: 5 p.m. Eastern Time on Wednesday, September 24, 2008.

Take notice that the Commission received the following electric rate filings:

Docket Numbers: ER91-569-043; ER02-862-011; ER01-666-011.

Applicants: Entergy Services, Inc.; Entergy Power Ventures, L.P.; EWO Marketing, LP; Entergy Power, Inc.

Description: Entergy Operating Companies et al. submits updated market power analysis to support the continued allowance of market-based rates pursuant to Order 697-A.

Filed Date: 08/29/2008.

Accession Number: 20080903-0081.

Comment Date: 5 p.m. Eastern Time on Tuesday, October 28, 2008.

Docket Numbers: ER94-1188-045; ER98-1279-016; ER98-4540-014; ER99-1623-014.

Applicants: LG&E Energy Marketing Inc., Louisville Gas & Electric Company, Kentucky Utilities Company, Western Kentucky Energy Corporation.

Description: LG&E Energy Marketing Inc. et al. submits their updated market power analysis in support of their continued authority to sell, capacity and ancillary services under their market-based rate tariffs under ER94-1188 et al. (exe et al. files not loaded).

Filed Date: 09/02/2008.

Accession Number: 20080903-0257.

Comment Date: 5 p.m. Eastern Time on Tuesday, September 23, 2008.

Docket Numbers: ER96-2652-057; ER99-4229-010; ER99-4228-010; ER99-852-011; ER08-589-002; ER99-666-007; ER08-293-002; ER08-297-002; ER99-3693-006.

Applicants: CL Power Sales Eight, L.L.C.; CP Power Sales Seventeen, L.L.C.; CP Power Sales Nineteen, L.L.C.; Edison Mission Marketing & Trading, Inc.; Edison Mission Solutions, L.L.C.; EME HOMER CITY GENERATION LP; Forward Windpower, LLC; Lookout Windpower, LLC; CP Power Sales Twenty, L.L.C.; Midwest Generation, LLC.

Description: The EME Companies submits its market power analysis for the Northeast markets as well as market-based rate tariffs, and the Affidavit and Exhibits of Julie R Solomon etc.

Filed Date: 08/29/2008.

Accession Number: 20080903-0141.

Comment Date: 5 p.m. Eastern Time on Tuesday, October 28, 2008.

Docket Numbers: ER01-205-030; ER98-2640-029; ER98-4590-026; ER99-1610-034;

Applicants: Xcel Energy Services Inc.; Northern States Power Company and Northe; Public Service Company of Colorado; Southwestern Public Service Company.

Description: Xcel Energy Services Inc. submits a Change in Status Report Compliance Filing and an errata on this filing on 8/27/08.

Filed Date: 08/20/2008; 08/27/08.

Accession Number: 20080820-5113; 20080827-5075.

Comment Date: 5 p.m. Eastern Time on Wednesday, September 17, 2008.

Docket Numbers: ER04-1099-005; ER00-1115-007; ER04-1080-005; ER00-3562-007; ER04-831-006; ER03-446-006; ER03-209-006; ER05-819-004; ER05-820-004; ER02-1959-006; ER06-741-004; ER06-742-004; ER04-1100-005; ER02-1319-007.

Applicants: Bethpage Energy Center 3, LLC; Calpine Construction Finance Company, LP; Calpine Energy Management, L.P.; Calpine Energy Services LP; Calpine Newark, LLC; Calpine Philadelphia, Inc; CES Marketing V, L.P.; CES Marketing IX, LLC; CES Marketing X, LLC; CPN BETHPAGE 3RD TURBINE, INC; KIAC PARTNERS; NISSEQUOGUE COGEN PARTNERS; TBG COGEN PARTNERS; Zion Energy LLC.

Description: Updated Market Power Analysis, Order 697-A Compliance Filing, and Market-Based Rate Tariff Revisions of Bethpage Energy Center 3, LLC et al.

Filed Date: 09/02/2008.

Accession Number: 20080904-0513.

Comment Date: 5 p.m. Eastern Time on Tuesday, September 23, 2008.

Docket Numbers: ER06-739-017; ER06-738-017; ER03-983-015; ER07-501-015; ER02-537-019; ER08-649-009.

Applicants: East Coast Power Linden Holding, LLC; Cogen Technologies Linden Venture, L.P.; Fox Energy Company LLC; Birchwood Power Partners, L.P.; Shady Hills Power Company, L.L.C.; EFS Parlin Holdings, LLC.

Description: Substitute to August 28 Notice of Non-Material Change in Status of East Coast Power Liden Holding, LLC, et al.

Filed Date: 09/03/2008.

Accession Number: 20080903-5109.

Comment Date: 5 p.m. Eastern Time on Wednesday, September 24, 2008.

Docket Numbers: ER07-188-005.

Applicants: Duke Energy Carolinas, LLC.

Description: Duke Energy Carolinas, LLC submits an updated market power analysis focusing on the generation owner and controlled in the Southeast Region.

Filed Date: 08/29/2008.

Accession Number: 20080903-0312.

Comment Date: 5 p.m. Eastern Time on Friday, September 19, 2008.

Docket Numbers: ER08-513-001.

Applicants: Entergy Services, Inc.

Description: Entergy Operating Companies submits proposed revisions to Attachment V of their Open Access Transmission tariff, FERC Electric Tariff, Third Revised Volume 3.

Filed Date: 08/29/2008.

Accession Number: 20080903-0080.

Comment Date: 5 p.m. Eastern Time on Friday, September 19, 2008.

Docket Numbers: ER08-1326-001.

Applicants: NAEA Newington Energy, LLC.

Description: NAEA Newington Energy LLC submits revisions to their market-based rate tariff designated as Origonal Sheet 1 et al. to FERC Electric Tariff, Volume 1 under ER08-1326.

Filed Date: 08/29/2008.

Accession Number: 20080903-0104.

Comment Date: 5 p.m. Eastern Time on Friday, September 19, 2008.

Docket Numbers: ER08-1372-002.

Applicants: E. ON U.S. LLC.

Description: Louisville Gas and Electric Co and Kentucky Utilities Co. submit an amendment to its Schedule 1 filing filed 8/8/08.

Filed Date: 08/29/2008.

Accession Number: 20080903-0102.

Comment Date: 5 p.m. Eastern Time on Friday, September 19, 2008.

Docket Numbers: ER08-1457-001.

Applicants: PPL Electric Utilities Corporation.

Description: PPL Electric Utilities Corp submits a Substitute Exhibit PPL-103.

Filed Date: 08/29/2008.

Accession Number: 20080903-0103.

Comment Date: 5 p.m. Eastern Time on Friday, September 19, 2008.

Docket Numbers: ER08-1465-000.

Applicants: Southwest Power Pool, Inc.

Description: Southwest Power Pool, Inc. submits two executed Service Agreements for Network Integration Transmission Service.

Filed Date: 08/29/2008.

Accession Number: 20080903-0100.

Comment Date: 5 p.m. Eastern Time on Friday, September 19, 2008.

Docket Numbers: ER08-1466-000.

Applicants: New England Power Pool.

Description: New England Power Pool, Inc submits the NEPOOL Member Applications and Termination of NEPOOL Memberships.

Filed Date: 08/29/2008.

Accession Number: 20080903-0099.

Comment Date: 5 p.m. Eastern Time on Friday, September 19, 2008.

Docket Numbers: ER08-1468-000.

Applicants: Southern Indiana Gas & Electric Company.

Description: Southern Indiana Gas & Electric Co. submits a Single-Issue Section 205 filing to implement request for Order 679 transmission rate incentives.

Filed Date: 08/29/2008.

Accession Number: 20080903-0089.

Comment Date: 5 p.m. Eastern Time on Friday, September 19, 2008.

Docket Numbers: ER08-1469-000.

Applicants: Entergy Power, Inc.

Description: Entergy Power, Inc submits a long-term cost based capacity sale agreement with Merrill Lynch Commodities, Inc.

Filed Date: 08/29/2008.

Accession Number: 20080903-0098.

Comment Date: 5 p.m. Eastern Time on Friday, September 19, 2008.

Docket Numbers: ER08-1470-000.

Applicants: Virginia Electric and Power Company.

Description: Virginia Electric and Power Co. submits a Service Agreement for Wholesale Distribution Service.

Filed Date: 08/29/2008.

Accession Number: 20080903-0097.

Comment Date: 5 p.m. Eastern Time on Friday, September 19, 2008.

Docket Numbers: ER08-1471-000.

Applicants: PacifiCorp.

Description: PacifiCorp submits an updated Exhibit B to a Network Integration Transmission Service Agreement.

Filed Date: 08/29/2008.

Accession Number: 20080903-0096.

Comment Date: 5 p.m. Eastern Time on Friday, September 19, 2008.

Docket Numbers: ER08-1472-000.

Applicants: PacifiCorp.

Description: PacifiCorp submits Second Revised Sheet 355 et al. to FERC Electric Tariff, Seventh Revised Volume 11, to be effective 8/1/08.

Filed Date: 08/29/2008.

Accession Number: 20080903-0095.

Comment Date: 5 p.m. Eastern Time on Friday, September 19, 2008.

Docket Numbers: ER08-1473-000.

Applicants: PacifiCorp.

Description: PacifiCorp submits a Network Integration Transmission Service Agreement to be effective 9/1/08.

Filed Date: 08/29/2008.

Accession Number: 20080903-0094.

Comment Date: 5 p.m. Eastern Time on Friday, September 19, 2008.

Docket Numbers: ER08-1474-000.

Applicants: South Carolina Electric & Gas Company.

Description: South Carolina Electric & Gas Co. submits an executed revised Network Integration Transmission Service Agreement.

Filed Date: 08/29/2008.

Accession Number: 20080903-0093.

Comment Date: 5 p.m. Eastern Time on Friday, September 19, 2008.

Docket Numbers: ER08-1475-000.

Applicants: Cheyenne Light Fuel & Power Company.

Description: Cheyenne Light, Fuel and Power Co. submits a Renewable Energy Sales Agreement.

Filed Date: 08/29/2008.

Accession Number: 20080903-0092.

Comment Date: 5 p.m. Eastern Time on Friday, September 19, 2008.

Docket Numbers: ER08-1476-000.

Applicants: Duke Energy Carolinas, LLC.

Description: Duke Energy Carolinas, LLC submits a revised Network Integration Transmission Service Agreement.

Filed Date: 08/29/2008.

Accession Number: 20080903-0091.

Comment Date: 5 p.m. Eastern Time on Friday, September 19, 2008.

Docket Numbers: ER08-1477-000.

Applicants: Midwest Independent Transmission System.

Description: Midwest Independent Transmission System Operator, Inc. submits Large Generator Interconnection Agreement among American Transmission Company, LLC, Wisconsin Power and Light Co., & Midwest ISO, etc.

Filed Date: 08/29/2008.

Accession Number: 20080903-0109.

Comment Date: 5 p.m. Eastern Time on Friday, September 19, 2008.

Docket Numbers: ER08-1478-000.

Applicants: Black Hills Power, Inc.

Description: Black Hills Power, Inc. et al. submits an amendment to Schedule B to the Generation Dispatch and Energy Management Agreement.

Filed Date: 08/29/2008.

Accession Number: 20080903-0079.

Comment Date: 5 p.m. Eastern Time on Friday, September 19, 2008.

Docket Numbers: ER08-1479-000; ER08-1480-000.

Applicants: Progress Ventures, Inc.

Description: Progress Ventures, Inc. submits Notices of Cancellation of its market-based rate tariff.

Filed Date: 08/29/2008.

Accession Number: 20080903-0090.

Comment Date: 5 p.m. Eastern Time on Friday, September 19, 2008.

Docket Numbers: ER08-1481-000.

Applicants: EME Homer City Generation LP.

Description: The EME Companies submits a notice of cancellation of First Revised, Volume No. 2 of its market-based rate tariff.

Filed Date: 08/29/2008.

Accession Number: 20080903-0141.

Comment Date: 5 p.m. Eastern Time on Friday, September 19, 2008.

Docket Numbers: ER08-1482-000.

Applicants: Ameren Services Company.

Description: Illinois Power Co. submits an executed service agreement for Wholesale Distribution Service with Wabash Valley Power Association, Inc. as agent for MJM Electric Coop, Inc. et al.

Filed Date: 08/29/2008.

Accession Number: 20080903-0107.

Comment Date: 5 p.m. Eastern Time on Friday, September 19, 2008.

Docket Numbers: ER08-1483-000.

Applicants: Ameren Services Company.

Description: Central Illinois Public Service Co. submits an executed service agreement for Wholesale Distribution Service with Norris Electric Cooperative.

Filed Date: 08/29/2008.

Accession Number: 20080903-0101.

Comment Date: 5 p.m. Eastern Time on Friday, September 19, 2008.

Docket Numbers: ER08-1489-000.

Applicants: Southwest Power Pool, Inc.

Description: Southwest Power Pool, Inc. submits the Meter Agent Services Agreement.

Filed Date: 09/02/2008.

Accession Number: 20080903-0309.

Comment Date: 5 p.m. Eastern Time on Tuesday, September 23, 2008.

Docket Numbers: ER08-1491-000.

Applicants: PJM Interconnection, L.L.C.

Description: PJM Interconnection, LLC submits an executed interconnection service agreement.

Filed Date: 09/02/2008.

Accession Number: 20080903-0310.

Comment Date: 5 p.m. Eastern Time on Tuesday, September 23, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Nathaniel J. Davis, Sr.,
Deputy Secretary.

[FR Doc. E8-21559 Filed 9-16-08; 8:45 am]

BILLING CODE 6717-01-P